DEPARTMENT OF DEFENSE

Office of the Secretary

[Docket ID: DoD-2008-OS-0076]

Privacy Act of 1974; Systems of Records

AGENCY: Defense Logistics Agency, DoD.

ACTION: Notice To Amend Four Systems of Records.

SUMMARY: The Defense Logistics Agency is amending four systems of records notices to its existing inventory of record systems subject to the Privacy Act of 1974 (5 U.S.C. 552a), as amended.

DATES: This action will be effective without further notice on August 13, 2008 unless comments are received that would result in a contrary determination.

ADDRESSES: Send comments to the Privacy Act Officer, Headquarters, Defense Logistics Agency, ATTN: DP, 8725 John J. Kingman Road, Stop 2533, Fort Belvoir, VA 22060-6221.

FOR FURTHER INFORMATION CONTACT: Ms. Jody Sinkler at (703) 767-5045.

SUPPLEMENTARY INFORMATION: The Defense Logistics Agency notices for systems of records subject to the Privacy Act of 1974 (5 U.S.C. 552a), as amended, have been published in the Federal Register and are available from the address above.

The specific changes to the record system being amended are set forth below followed by the notice, as amended, published in its entirety. The proposed amendment is not within the purview of subsection (r) of the Privacy Act of 1974 (5 U.S.C. 552a), as amended, which requires the submission of a new or altered system report.

Dated: July 7, 2008.
Patricia L. Toppings,
OSD Federal Register Liaison Officer, Department of Defense.

S100.70

System Name:

Invention Disclosure (February 6, 2004, 69 FR 5841).

Changes:

System Identifier:

Delete entry and replace with “S170.01.”

* * * * *

Categories of Records in the System:

Delete from entry “Social Security Number (SSN), address, and telephone number.”

Authority for Maintenance of the System:

Delete entry and replace with “5 U.S.C. 301, Departmental Regulations; 5 U.S.C. 4502, General provisions; 10 U.S.C. 2320, Rights in technical data; 15 U.S.C. 3710b, Rewards for scientific, engineering, and technical personnel of Federal agencies; 15 U.S.C. 3711, Employee Technology Award Program; 35 U.S.C., Chapter 17, Secrecy of Certain Inventions and Filing Applications in Foreign Country; and E.O. 10096, Inventions Made by Government Employees, as amended by E.O. 10930.”

* * * * *

Retention and Disposal:

Delete entry and replace with “Records maintain by the HQ DLA Office of Counsel are destroyed 26 years after file is closed. Records maintained by the DLA Field Activities Offices of Counsel where patent applications are not prepared are destroyed 7 years after closure.”

* * * * *

Record Access Procedures:

Delete from entry “For personal visits, each individual shall provide acceptable identification, e.g., driver's license or identification card.”

* * * * *

S170.01

System Name:

Invention Disclosure.

System Location:

Office of General Counsel, Headquarters, Defense Logistics Agency, 8725 John J. Kingman Road, Suite 1644, Fort Belvoir, VA 22060-6221 and the General Counsel Offices at the Defense Logistics Agency Field Activities. Mailing addresses may be obtained from the System manager below.

Categories of Individuals Covered by the System:

Employees and military personnel assigned to DLA who have submitted invention disclosures to DLA.

Categories of Records in the System:

Inventor's name; descriptions of inventions; designs or drawings, as appropriate; evaluations of patentability; recommendations for employee awards; licensing documents; and similar records. Where patent protection is pursued by DLA, the file may also contain copies of applications, Letters Patent, and related materials.

Authority for Maintenance of the System:

5 U.S.C. 301, Departmental Regulations; 5 U.S.C. 4502, General provisions; 10 U.S.C. 2320, Rights in technical data; 15 U.S.C. 3710b, Rewards for scientific, engineering, and technical personnel of Federal agencies; 15 U.S.C. 3711, Employee Technology Award Program; 35 U.S.C., Chapter 17, Secrecy of Certain Inventions and Filing Applications in Foreign Country; and E.O. 10096, Inventions Made by Government Employees, as amended by E.O. 10930.

Purpose(s):

Data is maintained for making determinations regarding and recording DLA interest in the acquisition of patents, for documenting the patent process, and for documenting any rights of the inventor. The records may also be used in conjunction with the employee award program, where appropriate.

Routine Uses of Records Maintained in the System, Including Categories of Users and the Purposes of Such Uses:

In addition to those disclosures generally permitted under 5 U.S.C. 552a(b) of the Privacy Act, these records or information contained therein may specifically be disclosed outside the DOD as a routine use pursuant to 5 U.S.C. 552a(b)(3) as follows:

To the U.S. Patent and Trademark Office for use in processing applications and performing related functions and responsibilities under Title 35 of the U.S. Code.

To foreign government patent offices for the purpose of securing foreign patent rights.

Information may be referred to other government agencies or to non-government agencies or to non-government personnel (including contractors or prospective contractors) having an identified interest in a particular invention and the Government's rights therein.

The DOD “Blanket Routine Uses” also apply to this system of records.

Policies and Practices for Storing, Retrieving, Accessing, Retaining, and Disposing of Records in the System:

Storage:

Records may be maintained on paper and electronic storage media.

Retrievability:

Records are retrieved by the names of inventors.

Safeguards:

Access is limited to those individuals who require the records for the performance of their official duties. Paper records are maintained in buildings with controlled or monitored access. During non-duty hours, records are secured in locked or guarded buildings, locked offices, or guarded cabinets. The electronic records systems employ user identification and password or smart card technology protocols.

Retention and Disposal:

Records maintain by the HQ DLA Office of Counsel are destroyed 26 years after file is closed. Records maintained by the DLA Field Activities Offices of Counsel where patent applications are not prepared are destroyed 7 years after closure.

System Manager(s) and Address:

General Counsel, Headquarters, Defense Logistics Agency, ATTN: DG, 8725 John J. Kingman Road, Suite 1644, Fort Belvoir, VA 22060-6221.

Notification Procedure:

Individuals seeking to determine whether information about themselves is contained in this system should address written inquiries to the Privacy Office, Headquarters, Defense Logistics Agency, ATTN: DGA, 8725 John J. Kingman Road, Suite 1644, Fort Belvoir, VA 22060-6221.

Inquiry should include the individual's full name, current address and telephone number.

Record Access Procedures:

Individuals seeking access to information about themselves contained in this system should address written inquiries to the Privacy Office, Headquarters, Defense Logistics Agency, ATTN: DGA, 8725 John J. Kingman Road, Suite 1644, Fort Belvoir, VA 22060-6221.

Inquiry should include the individual's full name, current address and telephone number.

Contesting Record Procedures:

The DLA rules for accessing records, for contesting contents, and appealing initial agency determinations are contained in 32 CFR part 323, or may be obtained from the Privacy Office, Headquarters, Defense Logistics Agency, ATTN: DGA, 8725 John J. Kingman Road, Suite 1644, Fort Belvoir, VA 22060-6221.

Record Source Categories:

Inventors, reviewers, evaluators, officials of U.S. and foreign patent offices, and other persons having a direct interest in the file.

Exemptions Claimed for the System:

None.

S100.71

System Name:

Royalties (February 2, 2004, 69 FR 4930).

Changes:

System Identifier:

Delete entry and replace with “S170.02.”

* * * * *

Categories of Records in the System:

Delete entry and replace with “Individual's name and address, reports from DLA procurement centers of patent royalties submitted pursuant to Defense Acquisition Regulation (DAR) forwarded to Defense Logistics Agency Headquarters, Office of General Counsel for approval, and included in pricing of respective contracts.”

Authority for Maintenance of the System:

Delete entry and replace with “10 U.S.C. 2304, Contracts: Competition requirements; 10 U.S.C. 2320, Rights in technical data; 10 U.S.C. 2511, Defense dual-use critical technology program; 15 U.S.C. 3710b, Rewards to scientific, engineering, and technical personnel of Federal agencies; and DOD Directive 5535.3, DOD Domestic Technology Transfer (T2) Program; Federal Acquisition Regulation Part 27, Patents, Data, and Copyrights and DFARS Part 227, Patents, Data, and Copyrights.”

* * * * *

Retention and Disposal:

Delete entry and replace with “Documents concerning contractor royalty reports and refund or adjustment of reported royalties are destroyed 10 years after closure.”

* * * * *

S170.02

System Name:

Royalties.

System Location:

Office of General Counsel, Headquarters, Defense Logistics Agency, 8725 John J. Kingman Road, Suite 1644, Fort Belvoir, VA 22060-6221 and the General Counsel Offices at the Defense Logistics Agency Field Activities. Mailing addresses may be obtained from the System manager below.

Categories of Individuals Covered by the System:

Individuals and firms to which patent royalties are paid by Defense Logistics Agency contractors.

Categories of Records in the System:

Individual's name and address, reports from DLA procurement centers of patent royalties submitted pursuant to Defense Acquisition Regulation (DAR) forwarded to Defense Logistics Agency Headquarters, Office of General Counsel for approval, and included in pricing of respective contracts.

Authority for Maintenance of the System:

10 U.S.C. 2304, Contracts: Competition requirements; 10 U.S.C. 2320, Rights in technical data; 10 U.S.C. 2511, Defense dual-use critical technology program; 15 U.S.C. 3710b, Rewards to scientific, engineering, and technical personnel of Federal agencies; and DOD Directive 5535.3, DoD Domestic Technology Transfer (T2) Program; Federal Acquisition Regulation Part 27, Patents, Data, and Copyrights and DFARS Part 227, Patents, Data, and Copyrights.

Purpose(s):

Data is maintained to document the review and approval of patent royalties.

Routine Uses of Records Maintained in the System, Including Categories of Users and the Purposes of Such Uses:

In addition to those disclosures generally permitted under 5 U.S.C. 552a(b) of the Privacy Act, these records or information contained therein may specifically be disclosed outside the DOD as a routine use pursuant to 5 U.S.C. 552a(b)(3) as follows:

Information may be referred to other government agencies or to non-government personnel (including contractors or prospective contractors) having an identified interest in the allowance of royalties on DLA contracts.

The DOD “Blanket Routine Uses” also apply to this system of records.

Policies and Practices for Storing, Retrieving, Accessing, Retaining, and Disposing of Records in the System:

Storage:

Records may be maintained on paper and electronic storage media.

Retrievability:

Records are retrieved the names of inventors and patent owners.

Safeguards:

Access is limited to those individuals who require the records for the performance of their official duties. Paper records are maintained in buildings with controlled or monitored access. During non-duty hours, records are secured in locked or guarded buildings, locked offices, or guarded cabinets. The electronic records systems employ user identification and password or smart card technology protocols.

Retention and Disposal:

Documents concerning contractor royalty reports and refund or adjustment of reported royalties are destroyed 10 years after closure.

System Manager(s) and Address:

General Counsel, Headquarters, Defense Logistics Agency, 8725 John J. Kingman Road, Suite 1644, Fort Belvoir, VA 22060-6221.

Notification Procedure:

Individuals seeking to determine whether information about themselves is contained in this system should address written inquiries to the Privacy Office, Headquarters, Defense Logistics Agency, ATTN: DGA, 8725 John J. Kingman Road, Suite 1644, Fort Belvoir, VA 22060-6221.

Inquiry should contain the individual's full name, current address and telephone numbers.

Record Access Procedures:

Individuals seeking access to information about themselves contained in this system should address written inquiries to the Privacy Office, Headquarters, Defense Logistics Agency, ATTN: DGA, 8725 John J. Kingman Road, Suite 1644, Fort Belvoir, VA 22060-6221.

Inquiry should contain the individual's full name, current address and telephone numbers.

Contesting Record Procedures:

The DLA rules for accessing records, for contesting contents, and appealing initial agency determinations are contained in 32 CFR part 323, or may be obtained from the Privacy Office, Headquarters, Defense Logistics Agency, ATTN: DGA, 8725 John J. Kingman Road, Suite 1644, Fort Belvoir, VA 22060-6221.

Record Source Categories:

DLA General Counsel's investigation of published and unpublished records and files both within and without the government, consultation with government and non-Government personnel, information from other Government agencies and information submitted by Government officials or other persons having a direct interest in the subject matter of the file.

Exemptions Claimed for the System:

None.

S100.72

System Name:

Patent Licenses and Assignments (February 25, 2004, 69 FR 8631).

Changes:

System identifier:

Delete entry and replace with “S170.03.”

* * * * *

Retention and Disposal:

Delete entry and replace with “Documents concerning licensing and assignment arrangements for use of patents owned by non-governmental organizations or individuals, including clearances to procure licenses or assignments; and consisting of correspondence on license negotiations, requests for clearance, license agreements, reports submitted under the terms of the license, and similar papers are destroyed 26 years after closure.”

* * * * *

Record Access Procedures:

Delete from entry “For personal visits, each individual shall provide acceptable identification, e.g., driver's license or identification card.”

* * * * *

S170.03

System Name:

Patent Licenses and Assignments.

System Location:

Office of General Counsel, Headquarters, Defense Logistics Agency, 8725 John J. Kingman Road, Suite 1644, Fort Belvoir, VA 22060-6221 and the General Counsel Offices at the Defense Logistics Agency Field Activities. Mailing addresses may be obtained from the System manager below.

Categories of Individuals Covered by the System:

Individuals and firms which have granted patent licenses or assignments to DLA.

Categories of Records in the System:

Files including patent license and assignment agreements and accounting records indicating basis for Government payment of royalties during life of agreements.

Authority for Maintenance of the System:

10 U.S.C. 2386, Copyrights, patents, designs, etc.; acquisition; 10 U.S.C. 2515, Office of Technology Transition; 35 U.S.C. 202, Disposition of rights; DFARS Subpart 227.70, Infringement Claims, Licenses, and Assignments; DOD Directive 5535.3, DoD Domestic Technology Transfer (T2).

Purpose(s):

Data is maintained for the acquisition and administration of patent license and assignment agreements.

Routine uses of records maintained in the system, including categories of users and the purposes of such uses:

In addition to those disclosures generally permitted under 5 U.S.C. 552a(b) of the Privacy Act, these records or information contained therein may specifically be disclosed outside the DOD as a routine use pursuant to 5 U.S.C. 552a(b)(3) as follows:

Information may be referred to other Government agencies or to non-Government personnel (including contractors or prospective contractors) having an identified interest in the potential or actual infringement of particular patents.

The DOD “Blanket Routine Uses” also apply to this system of records.

Policies and practices for storing, retrieving, accessing, retaining, and disposing of records in the system:

Storage:

Records may be maintained on paper and electronic storage media.

Retrievability:

Records are retrieved by the name of individual or firm granting rights.

Safeguards:

Access is limited to those individuals who require the records for the performance of their official duties. Paper records are maintained in buildings with controlled or monitored access. During non-duty hours, records are secured in locked or guarded buildings, locked offices, or locked cabinets. The electronic records systems employ user identification and password or smart card technology protocols.

Retention and Disposal:

Documents concerning licensing and assignment arrangements for use of patents owned by non-governmental organizations or individuals, including clearances to procure licenses or assignments; and consisting of correspondence on license negotiations, requests for clearance, license agreements, reports submitted under the terms of the license, and similar papers are destroyed 26 years after closure.

System Manager(s) and Address:

General Counsel, Headquarters, Defense Logistics Agency, 8725 John J. Kingman Road, Suite 1644, Fort Belvoir, VA 22060-6221.

Notification Procedure:

Individuals seeking to determine whether information about themselves is contained in this system should address written inquiries to the Privacy Office, Headquarters, Defense Logistics Agency, ATTN: DGA, 8725 John J. Kingman Road, Suite 1644, Fort Belvoir, VA 22060-6221.

Inquiry should contain the individual's full name, current address and telephone numbers.

Record Access Procedures:

Individuals seeking access to information about themselves contained in this system should address written inquiries to the Privacy Office, Headquarters, Defense Logistics Agency, ATTN: DGA, 8725 John J. Kingman Road, Suite 1644, Fort Belvoir, VA 22060-6221.

Inquiry should contain the individual's full name, current address and telephone numbers.

Contesting Record Procedures:

The DLA rules for accessing records, for contesting contents, and appealing initial agency determinations are contained in 32 CFR part 323, or may be obtained from the Privacy Office, Headquarters, Defense Logistics Agency, ATTN: DGA, 8725 John J. Kingman Road, Suite 1644, Fort Belvoir, VA 22060-6221.

Record Source Categories:

DLA General Counsel's investigation of published and unpublished records and files both within and without the government, consultation with government and non-government personnel, information from other government agencies and information submitted by Government officials or other persons having a direct interest in the subject matter of the file.

Exemptions Claimed for the System:

None.

S100.50 DLA-GC

System Name:

Fraud and Irregularities (November 16, 1993, 58 FR 60428).

Changes:

System Identifier:

Delete entry and replace with “S170.04.”

* * * * *

Authority for Maintenance of the System:

Delete entry and replace with “10 U.S.C. 136, Under Secretary of Defense for Personnel and Readiness; Pub. L. 95-521, Ethics in Government Act; and DOD Directive 7050.5, Coordination of Remedies for Fraud and Corruption Related to Procurement Activities.”

* * * * *

S170.04

System Name:

Fraud and Irregularities.

System Location:

Office of General Counsel, Headquarters, Defense Logistics Agency, 8725 John J. Kingman Road, Suite 1644, Fort Belvoir, VA 22060-6221 and the General Counsel Offices at the Defense Logistics Agency Field Activities. Mailing addresses may be obtained from the System manager below.

Categories of Individuals Covered by the System:

Any individual or group of individuals or other entity involved in or suspected of being involved in any fraud, criminal conduct or antitrust violation relating to DLA procurement, property disposal, or contract administration, or other DLA activities.

Categories of Records in the System:

Investigative reports, complaints, pleadings and other court documents, litigation reports, working papers, documentary and physical evidence, contractor suspensions and debarments.

Authority for Maintenance of the System:

10 U.S.C. 136, Under Secretary of Defense for Personnel and Readiness; Public Law 95-521, Ethics in Government Act; and DOD Directive 7050.5, Coordination of Remedies for Fraud and Corruption Related to Procurement Activities.

Purpose(s):

Information is used in the investigation and prosecution of criminal or civil actions involving fraud, criminal conduct and antitrust violations and is used in determinations to suspend or debar individuals or other entities from DLA procurement and sales.

Routine uses of records maintained in the system, including categories of users and the purposes of such uses:

In addition to those disclosures generally permitted under 5 U.S.C. 552a(b) of the Privacy Act, these records or information contained therein may specifically be disclosed outside the DOD as a routine use pursuant to 5 U.S.C. 552a(b)(3) as follows:

The DOD “Blanket Routine Uses” also apply to this system of records.

Policies and Practices for Storing, Retrieving, Accessing, Retaining, and Disposing of Records in the System:

Storage:

Records may be maintained on paper and electronic storage media.

Retrievability:

Records are retrieved alphabetically by the name of the subject individual or other entity.

Safeguards:

Records, as well as computer terminals, are maintained in areas accessible only to DLA personnel. In addition, access to and retrieval for computerized files is limited to authorized users and is password protected.

Retention and Disposal:

Records are destroyed six years after all aspects of the case are closed.

System Manager(s) and Address:

General Counsel, Headquarters, Defense Logistics Agency, 8725 John J. Kingman Road, Suite 1644, Fort Belvoir, VA 22060-6221 and the General Counsel at the Defense Logistics Agency Field Activity.

Notification Procedure:

Individuals seeking to determine whether information about themselves is contained in this system should address written inquiries to the Privacy Office, Headquarters, Defense Logistics Agency, ATTN: DGA, 8725 John J. Kingman Road, Suite 1644, Fort Belvoir, VA 22060-6221.

Record Access Procedures:

Individuals seeking access to information about themselves contained in this system should address written inquiries to the Privacy Office, Headquarters, Defense Logistics Agency, ATTN: DGA, 8725 John J. Kingman Road, Suite 144, Fort Belvoir, VA 22060-6221.

Contesting Record Procedures:

The DLA rules for accessing records, for contesting contents, and appealing initial agency determinations are contained in 32 CFR part 323, or may be obtained from the Privacy Office, Headquarters, Defense Logistics Agency, ATTN: DGA, 8725 John J. Kingman Road, Suite 1644, Fort Belvoir, VA 22060-6221.

Record Source Categories:

Federal, state and local investigative agencies; other federal agencies; DLA employees; and individuals.

Exemptions Claimed for the System:

Investigatory material compiled for law enforcement purposes, other than material within the scope of subsection 5 U.S.C. 552a(j)(2), may be exempt pursuant to 5 U.S.C. 552a(k)(2). However, if an individual is denied any right, privilege, or benefit for which he would otherwise be entitled by Federal law or for which he would otherwise be eligible, as a result of the maintenance of the information, the individual will be provided access to the information, except to the extent that disclosure would reveal the identify of a confidential source. Note: When claimed, this exemption allows limited protection of investigative reports maintained in a system of records used in personnel or administrative actions.

Investigatory material compiled solely for the purpose of determining suitability, eligibility, or qualifications for federal civilian employment, military service, federal contracts, or access to classified information may be exempt pursuant to 5 U.S.C. 552a(k)(5), but only to the extent that such material would reveal the identity of a confidential source.

An exemption rule for this system has been promulgated in accordance with the requirements of 5 U.S.C. 553(b)(1), (2), and (3), (c) and (e) and is published at 32 CFR part 323. For more information, contact the system manager.

[FR Doc. E8-15931 Filed 7-11-08; 8:45 am]

BILLING CODE 5001-06-P